Proclamation 8724 of October 3, 2011

National Breast Cancer Awareness Month, 2011

By the President of the United States of America

A Proclamation

This month, pink ribbons will be displayed around our country, adorning jackets and public spaces alike. A sign of solidarity, these ribbons remind us of our commitment to preventing and treating breast cancer, and to supporting those courageously battling this disease. Countless Americans will participate in events to raise awareness alongside survivors and their families, working together to support research that will save lives.

We have come far in recent decades in the prevention, early detection, and treatment of breast cancer. Still, this year, hundreds of thousands of women will be diagnosed with breast cancer, and too many will be lost. African-American women bear a particularly large burden, experiencing higher death rates from breast cancer than other racial or ethnic groups in the United States. Too many men also develop and fall victim to this cancer.

It is important to understand the risks and precautions associated with breast cancer. Some risk factors, like obesity, are avoidable. Other factors, like family history, are not avoidable, but knowledge of them can help inform medical decisions. Taking protective steps like getting regular check-ups, maintaining a healthy body weight and balanced diet, and exercising may help lower the chances of developing breast cancer. I encourage all Americans to talk to their doctors about breast cancer, and to visit www.Cancer.gov to learn more about symptoms, diagnosis, and treatment.

Screening and early detection are essential to fighting this disease, yet only about two-thirds of American women over 40 have had a mammogram in the last 2 years. But now, thanks to the Affordable Care Act, all Americans joining new health-care plans can receive recommended preventive services, including annual mammograms for women over 40, with no out-of-pocket costs. This new benefit would also ensure that women in new insurance plans who are at high risk for breast cancer are covered when they speak with their clinicians about ways to prevent or delay the development of cancer. The Affordable Care Act also established a committee tasked with advancing awareness and prevention of breast cancer among young women.

This month, we join together in honoring the women and men lost to breast cancer. In their memory, we recommit to supporting the hard-working researchers, health-care providers, advocates, and organizations dedicated to treating and curing this devastating disease. We embrace our mothers, daughters, sisters, and loved ones currently battling breast cancer, along with their friends and families, and we resolve to one day defeat it.

NOW, THEREFORE, I, BARACK OBAMA, President of the United States of America, by virtue of the authority vested in me by the Constitution and the laws of the United States, do hereby proclaim October 2011 as National Breast Cancer Awareness Month. I encourage citizens, government agencies, private businesses, nonprofit organizations, and all other interested groups to join in activities that will increase awareness of what Americans can do to prevent and control breast cancer.

IN WITNESS WHEREOF, I have hereunto set my hand this third day of October, in the year of our Lord two thousand eleven, and of the Independence of the United States of America the two hundred and thirty-sixth.

[FR Doc. 2011-26143

Filed 10-6-11; 8:45 am]

Billing code 3295-F2-P